FEDERAL HOUSING FINANCE AGENCY

[No. 2011-N-02]

Proposed Collection; Comment Request

AGENCY: Federal Housing Finance Agency.

ACTION: Submission of Information Collection for Emergency Approval from the Office of Management and Budget.

SUMMARY: The Federal Housing Finance Agency (FHFA) submitted to the Office of Management and Budget (OMB) for emergency review, revisions to the information collection, “Federal Home Loan Bank Directors,” OMB No. 2590-0006. The revisions were approved under the Paperwork Reduction Act of 1995, Public Law 104-13. Specifically, FHFA requested review of revisions to the 2008 OMB-approved Federal Home Loan Bank Elective Director Eligibility Certification Form, the Federal Home Loan Bank Appointive Director Application Form, and the Federal Home Loan Bank Appointive Director Certification Form. Since 2008, when the Federal Home Loan Banks' (Bank) former regulator, the Federal Housing Finance Board (Finance Board), last obtained OMB approval for this information collection, there have been statutory and regulatory changes affecting the use of the forms. The passage of the Housing and Economic Recovery Act of 2008 (HERA), Public Law 110-289 (2008) amended section 7 of the Federal Home Loan Bank Act (Bank Act) which provided for the appointment of a portion of each Federal Home Loan Bank's board of directors. The HERA amendments resulted in needed revisions to the current OMB-approved forms associated with these appointments. The first of the revisions to the forms includes renaming them respectively, the Federal Home Loan Bank Member Director Eligibility Certification Form, the Federal Home Loan Bank Independent Director Application Form, and the Federal Home Loan Bank Independent Director Annual Certification Form. A more detailed description of the remaining revisions is discussed below in Overview of the Information Collection. FHFA requested emergency review of these revisions because the revised forms are being used in January 2011. These revisions did not result in a change in burden.

To allow interested persons to comment on this information collection, FHFA is publishing this notice and plans to submit a request for a three-year extension of OMB's approval. Comments regarding this information collection should be addressed to the Office of Information and Regulatory Affairs of OMB, Attention: Desk Officer for the Federal Housing Finance Agency, Washington, DC 20503, Fax: 202-395-6974, Email: OIRA_Submission@omb.eop.gov. Please also submit comments to FHFA using any one of the following methods and include “Comments: Federal Home Loan Bank Directors (No. 2011-N-02)” as the subject:

• E-mail: RegComments@fhfa.gov;

• Federal eRulemaking Portal: http://www.regulations.gov. Follow the instructions for submitting comments. If you submit your comment to the Federal eRulemaking Portal, please also send it by e-mail to FHFA at RegComments@fhfa.gov to ensure timely receipt by FHFA.

• U.S. Mail/Hand Delivery: Federal Housing Finance Agency, Fourth Floor, 1700 G Street, NW., Washington, DC 20552.

We will post all public comments we receive without change, including any personal information you provide, such as your name and address, on the FHFA website at http://www.fhfa.gov. In addition, copies of all comments received will be available for examination by the public on business days between the hours of 10 a.m. and 3 p.m., at the Federal Housing Finance Agency, Fourth Floor, 1700 G Street, NW., Washington, DC 20552. To make an appointment to inspect comments, please call the Office of General Counsel at 202-414-6924.

DATES: Interested persons may submit comments on or before March 28, 2011.

FOR FURTHER INFORMATION CONTACT: Patricia L. Sweeney, Management Analyst, Division of FHLBank Regulation, patricia.sweeney@fhfa.gov, (202) 408-2872 (this is not a toll-free number), Federal Housing Finance Agency, 1625 Eye Street, NW., Washington, DC 20006; Eric M. Raudenbush, Assistant General Counsel, eric.raudenbush@fhfa.gov, (202) 414-6421 (this is not a toll-free number); Federal Housing Finance Agency, Fourth Floor, 1700 G Street, NW., Washington, DC 20552. The telephone number for the Telecommunications Device for the Hearing Impaired is (800) 877-8339.

A. Overview of the Information Collection

Title of the Collection: Federal Home Loan Bank Directors.

OMB No.: 2590-0006.

Expires: July 31, 2011.

Need and Use of the Information Collection: Section 7 of the Bank Act vests the management of each Bank in its board of directors. See 12 U.S.C. 1427(a)(1). As required by section 7, each Bank's board comprises two types of directors: (1) Member directors, who are drawn from the officers and directors of member institutions located in the Bank's district and who are elected every four years to represent members in a particular state; and (2) independent directors, who are unaffiliated with any Bank member and who are elected every four years on an at-large basis in each Bank district. See 12 U.S.C. 1427(b) and (d). Section 7 and FHFA's implementing regulation, codified at 12 CFR part 1261, establish the eligibility requirements for both types of Bank directors and the qualifications for independent directors, and set forth the procedures for their election.

Under part 1261 of the regulations, the Banks determine the eligibility of nominees for member and independent directorships and administer the annual director election process. As part of this process, candidates for both types of directorship, including incumbents, are required to complete and return to the Bank a form that solicits information about the candidate's statutory eligibility to serve and, in the case of independent director candidates, about his or her qualifications for the directorship being sought. See 12 CFR 1261.7(c) and (f); 12 CFR 1261.14(b). Specifically, member director candidates are required to complete the Federal Home Loan Bank Member Director Eligibility Certification Form (Member Director Eligibility Certification Form), while independent director candidates must complete the Federal Home Loan Bank Independent Director Application Form (Independent Director Application Form). Part 1261 also requires that all directors certify annually that they continue to meet all eligibility requirements. See 12 CFR 1261.12. Member directors do this by completing the Member Director Eligibility Certification Form again every year, while Independent Directors complete the abbreviated Federal Home Loan Bank Independent Director Annual Certification Form (Independent Director Annual Certification Form) to certify their ongoing eligibility. (These three forms are hereinafter referred to collectively as the “Bank Director Forms.”)

Since 2008, when the Banks' former regulator, the Finance Board, last obtained OMB approval for this information collection, there have been statutory and regulatory changes affecting the use of the forms. Prior to the passage of HERA, section 7 of the Bank Act provided for the appointment of a portion of each Bank's board of directors by the Finance Board. HERA amended section 7 by replacing this “appointive director” requirement with the current requirement that independent directors be elected by each Bank's membership on an at-large basis. Because the eligibility requirements and qualifications that HERA established for independent directors are similar to those that previously applied to appointive directors, FHFA made some minor revisions to the OMB-approved Federal Home Loan Bank Appointive Director Application Form to create the Independent Director Application Form. Similarly, FHFA made some minor revisions to the OMB-approved Federal Home Loan Bank Appointive Director Certification Form to create the Independent Director Annual Certification Form. Although no significant changes were made, FHFA also revised the OMB-approved Federal Home Loan Bank Elective Director Eligibility Certification Form in order to conform to the new nomenclature established by HERA and thereby created the Member Director Eligibility Certification Form. None of these revisions resulted in any change in the burden associated with the completion of any of the Bank Director Forms.

Affected Public: Private Sector.

Costs: FHFA estimates that there will be no annualized capital/start-up costs for the respondents to collect and submit the information.

Type of Respondents: Individuals who are prospective and incumbent Bank Directors.

B. Burden Estimate

FHFA estimates the total number of respondents is 295, which includes 160 prospective directors (100 member and 60 independent) and 135 incumbent directors (80 member and 55 independent). As explained below, FHFA estimates that the total annual hour burden for all respondents is 278 hours.

1. Prospective and Incumbent Member Directors

FHFA estimates the total annual average hour burden for all the prospective and incumbent member directors is 70 hours. This includes a total annual average of 100 prospective member directors, with 1 response per individual taking an average of 30 minutes (.5 hours) (100 individuals × .5 hours = 50 hours). It also includes a total annual average of 80 incumbent member directors, with 1 response per individual taking an average of 15 minutes (.25 hours) (80 individuals × .25 hours = 20 hours).

2. Prospective and Incumbent and Independent Directors

FHFA estimates the total annual average hour burden for all the prospective and incumbent independent directors is 208. This includes a total annual average of 60 prospective independent directors, with 1 response per individual taking an average of 3 hours (60 individuals × 3 hours = 180 hours). It also includes a total annual average of 55 incumbent independent directors, with 1 response per individual taking an average of 30 minutes (.5 hours) (55 individuals × .5 hours = 28 hours).

C. Comment Request

FHFA requests written comments on the following: (1) Whether the collection of information is necessary for the proper performance of FHFA functions, including whether the information has practical utility; (2) the accuracy of FHFA's estimates of the burdens of the collection of information; (3) ways to enhance the quality, utility, and clarity of the information collected; and (4) ways to minimize the burden of the collection of information on respondents, including through the use of automated collection techniques or other forms of information technology.

Dated: January 19, 2011.
Edward J. DeMarco,
Acting Director, Federal Housing Finance Agency.

BILLING CODE 8070-01-P

[FR Doc. 2011-1825 Filed 1-27-11; 8:45 am]

BILLING CODE 8070-01-C